DEPARTMENT OF HOUSING AND URBAN DEVELOPMENT

[Docket No. FR-4802-N-01]

Notice of Funding Availability (NOFA) for the Permanent Housing and Special Efforts for Subpopulations Technical Assistance Program (PHASES-TA)

AGENCY: Office of Community Planning and Development, HUD.

ACTION: Notice of funding availability (NOFA).

SUMMARY: Purpose of the Program: The purpose of the technical assistance (TA) program detailed in this NOFA is: To provide technical assistance to grantees, project sponsors, and potential applicants for the McKinney-Vento Act funded Supportive Housing Program, Section 8 Moderate Rehabilitation Single Room Occupancy, and Shelter Plus Care projects to promote the development of permanent housing and supportive services as part of the Continuum of Care (CoC) approach, including innovative approaches to enable homeless persons to live as independently as possible. A Continuum of Care approach helps communities plan for and provide a balance of emergency, transitional, and permanent housing and service resources to address the needs of homeless persons so they can make the critical transition from the streets to permanent housing and independent living. In addition to prevention, the fundamental components of a CoC system are outreach and assessment to identify an individual's or family's needs and make connections to facilities and services, emergency shelter, transitional housing, and permanent housing arrangements. In addition, this TA program is intended to provide assistance to faith-based and other community grassroots organizations, veteran-specific organizations, and organizations serving Colonias areas to better enable them to develop and implement viable project proposals to assist homeless persons using McKinney-Vento funds.

HUD's Strategic Goals: Activities funded through this NOFA are meant, to the extent practicable, to support the Strategic Goals described below:

Strategic Goal 1. Effectively address the challenge of homelessness. Ending chronic homelessness within a decade is a primary goal of HUD's homeless assistance programs. HUD is also the primary agency responsible for providing housing and related resources to prevent homelessness and help homeless families and individuals move to permanent housing.

Strategic Goal 2. Strengthen and expand faith-based and other community partnerships that enhance communities. HUD has a long and rich history of cooperating with faith-based and other community-based organizations to address the needs of underserved communities, including the needs of those Americans for whom homelessness, the lack of affordable housing, and limited alternatives for special needs housing lead to despair and hopelessness. Building on this history, HUD plans to strengthen and expand its partnerships with faith-based and other community-based groups to take further advantage of their capacity to provide quality services to communities and families.

Available Funds. Up to $2 million in FY 2002 funds is available for the PHASES-TA program. (Approximately $1 million will be available in TA funds for development and implementation of permanent housing, with the remaining $1 million to be used for technical assistance for faith-based and other community organizations, veteran-specific organizations, and organizations either currently serving or desiring to serve Colonias.)

Eligible Applicants. Specific eligibility requirements for the PHASES-TA program are found below in Section III (C).

Application Deadline. June 18, 2003.

Match: None.

ADDITIONAL INFORMATION:

I. Application Due Date; Application Submission Procedures; Further Information and Technical Assistance

Application Due Date: Applicants must submit a completed application (original and one copy) by June 18, 2003, to the address shown below. Only one application per applicant is permitted.

Application Submission Procedures. HUD has standardized security procedures that affect the application submission process. Please read the following instructions carefully and completely. HUD will not accept hand delivered applications. Applications may be mailed using DHL, Falcon Carrier, FedEx, United Parcel Service (UPS), or the United States Postal Service (USPS). No other delivery services are permitted into HUD Headquarters without escort. Applicants must, therefore, use one of the five carriers listed above.

Mailed Applications. An application will be considered timely filed if it is postmarked on or before 5:15 pm EDT on June 18, 2003, and received by the designated HUD office on or within twenty-one (21) days of the application due date. All applicants must obtain and save a Certificate of Mailing showing the date when the application was submitted to the United States Postal Service (USPS). The Certificate of Mailing will be the applicant's documentary evidence that the application was timely filed.

Applications Sent by Overnight/Express Mail Delivery. If the application is sent by overnight delivery or express mail, the application will be timely filed if it is received on or before June 18, 2003, or when the applicant submits documentary evidence that the application was placed in transit with the overnight delivery/express mail service by no later than June 18, 2003. Due to security measures, applicants must use one of four carrier services that are permitted into HUD Headquarters without escort. These services are DHL, Falcon Carrier, FedEx and UPS. Delivery by these services must be made during HUD Headquarters business hours, 8:30 a.m. to 5:30 p.m. Eastern Time, Monday through Friday. If these companies do not service an applicant's area, the applicant should submit the application via the United States Postal Service.

Addresses for Submitting Applications. Applicants must submit completed applications to HUD Headquarters, U.S. Department of Housing and Urban Development, Office of Community Planning and Development (CPD) Processing and Control Branch, Room 7251, 451 Seventh Street, SW., Washington, DC 20410. A completed application consists of the original application and one copy. When submitting an application, applicants should refer to the Permanent Housing and Special Efforts for Subpopulations Technical Assistance (PHASES-TA) Program. Applicants should include name, mailing address (including zip code), telephone number (including area code), and fax number (including area code).

Further Information and Technical Assistance. For supplemental information or technical assistance, applicants may contact Jean Whaley at 202-708-3176, x2774 (this is not a toll-free number) in HUD Headquarters. Persons with hearing and speech challenges may access the above number via TTY by calling the Federal Relay Service at 1-800-877-8339. Information on this NOFA may also be obtained through the HUD Web site on the Internet at http://www.hud.gov.

II. Amount Allocated

(A) The amount allocated for the PHASES-TA program is up to $2,000,000.

(B) HUD will determine the total amount to be awarded to each provider based upon the size and needs of the provider's operating service area, the funds available for that area, the number of other awardees selected in that area, and the scope of the technical assistance to be provided. HUD may require selected applicants, as a condition of funding, to provide coverage on a geographically broader basis than applied for in order to supplement or strengthen the intermediary network in terms of the location (service area) and types and scope of technical assistance proposed.

(C) To the extent permitted by funding constraints, HUD intends to provide coverage for as full a range as possible of eligible activities. To achieve this objective, HUD will fund the highest ranking providers that bring the required expertise in one or more specialized activity areas, and may fund portions of providers' proposed programs in which they have the greatest skill and capability for given geographic areas. HUD will apply rating factors, identified in Section V of this NOFA, to select a range of providers and activities that would best serve program objectives for the programs funded under this NOFA.

III. Program Description; Program Award Period; Eligible Applicants; Eligible Activities

(A) Program Description

Up to $2 million in funds are available for technical assistance providers to help organizations that operate or wish to provide McKinney-Vento programs to better serve their clients' permanent and/or special housing and supportive service needs. Here the term “special” refers to one or more of three designated populations: homeless veterans, homeless persons in Colonias, or homeless persons being assisted by faith-based and other community grassroots organizations. Faith-based and other community grassroots organizations are defined as those organizations that are headquartered in the local community to which they provide services; and have social service budgets of $300,000 or less (not including other portions of the budget such as salaries and expenses), or have six or fewer full-time equivalent employees. Local affiliates of national organizations are not considered “grassroots.” Local affiliates of national organizations are encouraged, however, to partner with grassroots organizations but must demonstrate that they are currently working with a grassroots organization, e.g., having a congregation or civic organization, or other charitable organization provide volunteers.

Thus far, the three types of technical assistance that have been delineated include TA to providers who serve homeless veterans, TA to providers who serve homeless persons in Colonias, and TA to providers who serve homeless persons through faith-based and other community grassroots organizations. The fourth kind of technical assistance will be for providers of permanent housing serving any or all categories of homeless people. Eligible applicants are able to apply for funding to address the technical assistance needs of as few as one, and as many as all four, of these TA areas. This section of the NOFA reflects the statutory requirements of the PHASES-TA program.

(B) Program Award Period

(1) Cooperative agreements will be for a period of up to 18 months. HUD, however, reserves the right to:

(a) Terminate awards in accordance with provisions contained in OMB Circular A-102 and A-110, and 24 CFR parts 84-85, anytime after 12 months;

(b) Withdraw funds from a specific provider, if HUD determines that the need for assistance is not commensurate with the award for assistance; or

(c) Extend the performance period for up to a total of 12 additional months of individual awardees that have performed satisfactorily or for which there is a demonstrated continuing need for assistance. As a condition of receiving an award, a successful applicant must agree to serve for an extended period.

(2) In cases where an applicant selected for funding is currently providing technical assistance under an existing HUD grant/cooperative agreement, HUD reserves the right to adjust the start date of funding available under this NOFA to coincide with the conclusion of the previous award, or to incorporate the remaining activities from the previous award into the new agreement, adjusting the funding levels as necessary.

(C) Eligible Applicants

HUD is specifically looking for applicants who satisfy any one, or a combination of, the conditions from the following list:

(1) Applicant is a provider of permanent housing and/or supportive services to homeless individuals and/or families;

(2) Applicant has experience with the McKinney-Vento funding process;

(3) Applicant is a provider that services primarily homeless veterans and their families or focuses on homeless veterans as part of the homeless population it serves;

(4) Applicant is a provider that serves homeless persons in Colonias and their families;

(5) Applicant is a faith-based or community organization that serves homeless individuals and/or families;

(6) Applicant is a public and/or private nonprofit or for-profit group, including educational institutions and area-wide planning organizations, qualified to provide technical assistance on McKinney-Vento Act Homeless Assistance activities.

An organization may not provide assistance to itself. All applicant organizations must have demonstrated ability to provide TA in a geographic area larger than a single city or county and must propose to serve an area larger than a single city or county. A consortium of organizations may apply for one or more TA programs, but HUD will require that one organization be designated as the legal applicant, where legally feasible. Where one organization cannot be so designated for all proposed activities, HUD may execute more than one cooperative agreement with the members of a consortium. However, in general HUD will not award more than one cooperative agreement per application unless necessary due to legal requirements.

(D) Eligible Activities

Eligible activities under this NOFA are described below. All proposed activities must be generally eligible as described in (1), and address one of the following from (2), (3), (4), or (5), below:

(1) Funds are available to provide technical assistance to grantees and project sponsors for McKinney-Vento Act funded homeless assistance projects. Funds also may be used to provide technical assistance to potential applicants and potential project sponsors of McKinney-Vento Act homeless assistance grants. The assistance may include, but is not limited to, written information such as reports, manuals, guides and brochures; person-to-person exchanges; on-site or remote technical assistance visits and provision of technical expertise; and training and related costs. Eligible activities as appropriate for each of the four separate categories of technical assistance are listed below:

(2) Permanent housing. Provide assistance to (i) identify expert resources and facilitate the exchange of information needed to help participating organizations/jurisdictions build the capacity to develop and/or implement permanent housing in projects funded under the McKinney-Vento Act in order to better serve homeless persons and families; (ii) develop and publish descriptive material, in the form of a best practices guide, and include best practice examples for use by organizations working to develop and implement a McKinney-Vento funded permanent housing project; (iii) develop regional workshops focused on developing and implementing permanent housing projects funded under the McKinney-Vento Act; (iv) conduct 25 on-site or remote technical assistance visits to organizations seeking to develop or implement a permanent housing project using McKinney-Vento funds; (v) develop a guidebook on how Safe Havens can be developed and implemented as Supportive Housing Program permanent housing for the handicapped homeless and Section 8 Single Room Occupancy (SRO) projects. Safe Havens are a form of permanent housing that serves hard-to-reach homeless persons with severe mental illness who are unwilling or unable to participate in supportive services.

(3) Colonias. Colonias are primarily rural communities that are located within 150 miles of the U.S.-Mexican border and lack adequate infrastructure and basic services. For providers who serve homeless persons in Colonias, provide assistance to (i) identify projects receiving HUD McKinney-Vento Act funds that can be cited as best practices and or expert resources for effectively coordinating between Colonias and community organizations; (ii) identify and analyze barriers that tend to exclude or discourage Colonias from participation in the Continuum of Care process or other efforts to assist homeless persons; (iii) develop one or more workshops focused on developing and implementing housing projects funded under the McKinney-Vento Act and serving homeless persons in Colonias; (iv) develop and publish descriptive material in the form of a best practices guide for use by organizations working to develop and implement a McKinney-Vento-funded housing and/or services project serving homeless persons in Colonias.

(4) Faith-based and other community organizations. Provide assistance to (i) identify active projects receiving HUD McKinney-Vento Act funds that can be cited as best practices and/or expert resources for effectively coordinating between Continuum of Care systems and faith-based and other community organizations; (ii) identify and analyze factors that may tend to discourage faith-based and other community organizations from participation in HUD's homeless programs; (iii) develop 3-5 regional workshops, institutes, or other forums that will attract faith-based and other community organizations interested in developing projects to serve homeless individuals and families. Assistance will focus on the organization's capacity, which means that in addition to knowledge of, and experience with, homelessness in general, the organization carrying out the project, its employees and/or its partners must have the necessary knowledge, experience, and administrative systems in place to carry out the specific activities proposed (e.g., housing development, housing management, and service delivery) and the TA provided will be able to successfully assist or train organizations to compete for funding assistance under HUD's McKinney-Vento Act Homeless Assistance Program; (iv) conduct 10 on-site or remote technical assistance visits to faith-based and other community organizations seeking to develop or implement McKinney-Vento projects;

(5) Homeless veterans. Using previously identified best practices and expert resources, provide assistance to (i) facilitate the exchange of information needed to help participating organizations/jurisdictions build capacity to develop veteran-specific McKinney-Vento projects, i.e., in which the primary target group is homeless veterans; (ii) develop and participate in 3-5 training workshops, institutes, forums, or national or regional conferences and present the pertinent information obtained; (iii) conduct ten on-site or remote technical assistance visits to organizations seeking to develop or implement a veteran-specific McKinney-Vento project using McKinney-Vento funds; (iv) analyze coordination between the Continuum of Care and the Department of Veterans Affairs Community Homelessness Assessment, Local Education and Networking Groups (CHALENG) planning systems as it relates to addressing housing to meet the needs of veterans who are chronically homeless. The analysis should lead to development of more efficient planning and/or delivery of housing to chronically homeless veterans.

IV. Program Requirements

(A) Statutory Requirements

To be eligible for funding under this NOFA, the applicant must meet all statutory and regulatory requirements applicable to the McKinney-Vento program or programs for which funding is sought. If applicants need copies of the program regulations, they are available through the HUD Web site, http://www.hud.gov.

(B) Threshold Requirements

(1) Ineligible Applicants. HUD will not consider an application from an ineligible applicant.

(2) Compliance with Fair Housing and Civil Rights Laws.

(a) All applicants and their sub-recipients must comply with all Fair Housing and Civil Rights laws, statutes, regulations, and Executive Orders as enumerated at 24 CFR 5.105(a).

(b) Applicants may not apply for assistance under this NOFA, if the applicants:

(i) Have been charged with a systemic violation of the Fair Housing Act alleging ongoing discrimination;

(ii) Are a defendant in a Fair Housing Act lawsuit filed by the Department of Justice alleging an on-going pattern or practice of discrimination; or

(iii) Have received a letter of non-compliance findings under Title VI, Section 504, or Section 109, and if the charge, lawsuit, or letter of findings has not been resolved to HUD's satisfaction before the application deadline stated in the NOFA. HUD's decision regarding whether a charge, lawsuit, or a letter of findings has been satisfactorily resolved will be based upon whether appropriate actions have been taken to address allegations of on-going discrimination in the policies or practices involved in the charge, lawsuit, or letter of findings.

(3) Conducting Business in Accordance with HUD's Core Values and Ethical Standards. Entities subject to 24 CFR parts 84 and 85 (most nonprofit organizations and state, local and tribal governments or government agencies or instrumentalities who receive federal awards of financials assistance) are required to develop and maintain a written code of conduct (see Sections 84.42 and 85.36(b)(3)). Consistent with regulations governing specific programs, an applicant's code of conduct must: prohibit real and apparent conflicts of interest that may arise among officers, employees, or agents; prohibit the solicitation and acceptance of gifts or gratuities by its officers, employees, and agents for their personal benefit in excess of minimal value; and outline administrative and disciplinary actions available to remedy violations of such standards. If awarded assistance under this NOFA, applicants will be required, prior to entering into a grant agreement with HUD, to submit a copy of their code of conduct and describe the methods they will use to ensure that all officers, employees, and agents of their organizations are aware of their code of conduct;

(C) Additional Program Requirements

(1) Profit/Fee. No increment above cost, and no fee for profit, may be paid to any recipient of an award under this NOFA:

(2) Demand/Response Delivery System.

(a) Awardees must operate within the structure of the Demand/Response System described in this section.

(b) Under the Demand/Response System, awardees will be required to: (i) When requested by a Government Technical Representative (GTR), market the availability of their services to existing and potential recipients to include local jurisdictions in which the assistance will be delivered; (ii) when requested by a GTR, conduct a Needs Assessment to identify the type and nature of the assistance needed by the assistance recipients. These needs assessments should identify the nature of the problem to be addressed by the technical assistance services, and then delineate the plan of action to address the need, including the type of technical assistance services to be provided, the duration of the services, the staff assigned to provide the assistance, anticipated products and/or outcomes, the estimated cost for the provision of services, and the relationship of the proposed services to the planned or expected Consolidated Plan submission to HUD and to other technical assistance providers within the locality; (iii) obtain approval for the Technical Assistance Delivery Plan (TADP) from HUD (See Section a below); (iv) work cooperatively with other PHASES-TA providers in their geographic areas to ensure that clients are provided with the full range of PHASES-TA services needed and available. PHASES-TA providers are expected to be knowledgeable about the range of services available from other providers, make referrals and arrange visits by other PHASES-TA providers when appropriate, and carry out PHASES-TA activities concurrently when it is cost-effective and in the interests of the client to do so. HUD may direct PHASES-TA providers to conduct joint activities.

(3) Technical Assistance Delivery Plan (TADP).

(a) After selection for funding, but prior to award, an applicant must develop a TADP in consultation with and approved by an Office of Community Planning and Development GTR.

(b) The TADP must clearly delineate all the tasks and sub-tasks for each program the applicant will undertake. The plan must identify the improved program performance or other results expected from the activity and the methodology for measuring the success of the PHASES-TA. The TADP must show the location of the community/state in which the PHASES-TA activities will occur, the level of PHASES-TA funding and proposed activities by location, a time schedule for delivery of the activities, budget-by-task, budget summary, and staffing plan.

(4) Forms, Certifications, and Assurances. The applicant must submit signed copies of the standard forms, certifications, and assurances listed in this section. As part of HUD's continuing efforts to improve the NOFA process, several of the required standard forms have been simplified. The standard forms, certifications, and assurances are:

• Application for Federal Assistance (HUD-424);

• Applicant Assurance and Certifications (HUD-424-B);

• Budget Summary for Competitive Grant Programs (HUD-424-C);

• Grant Application Detailed Budget Worksheet (HUD-424-CBW);

• Applicant/Recipient Disclosure/Update Report (HUD-2880);

• Certification of Consistency with RC/EZ/EC Strategic Plan (HUD-2990), if applicable;

• Certification of Consistency with the Consolidated Plan (HUD-2991), if applicable;

• Acknowledgment of Application Receipt (HUD-2993);

• Client Comments and Suggestions (HUD-2994); and

• If engaged in lobbying, the Disclosure Form Regarding Lobbying (SF-LLL).

Copies of these standard forms are available from the HUD Web site at http://www.hud.gov.

(5) Financial Management and Audit Information. After selection for funding, but prior to award, an applicant must submit a certificate from an Independent Public Accountant or the cognizant government auditor, stating that its financial management system meets prescribed standards for control and accountability required by 24 CFR part 84 for Institutions of Higher Education and other Non-Profit Institutions, 24 CFR part 85 for States and local governments, or the Federal Acquisition Regulations (for all other applicants). The information should include the name and telephone number of the independent auditor, cognizant federal auditor, or other audit agency, as applicable.

(6) Training Sessions. When conducting training sessions as part of PHASES-TA activities, providers are required to; (a) design the course materials as “step-in” packages (also called “train-the-trainer” packages) so that HUD or its designee may separately give the course on its own; (b) arrange for joint delivery (grantee and HUD staff or designees, for example) of the training when so requested by the GTR; and (c) when requested by the GTR, provide for professional videotaping of the workshops/courses and ensure their production in a professional and high-quality manner, suitable for viewing by other PHASES-TA clients (if this requirement is implemented, additional funds may be requested); (d) when required by HUD, deliver HUD-approved training courses that have been designed and developed by other HUD contractors or HUD cooperating parties on a “step-in” basis for PHASES-TA clients, and send trainers to HUD-approved Train-the-Trainer sessions.

(7) Reports to GTRs. PHASES-TA awardees will be required to report to Headquarters GTRs. At a minimum, this reporting will be on a quarterly basis unless otherwise specified in the approved TADP.

(D) Additional Non-Discrimination Requirements

Applicants, and their sub-recipients, must comply with the Americans with Disabilities Act of 1990 (42 U.S.C. 1201 et seq), Section 504 of the Rehabilitation Act of 1973, and Title IX of the Education Amendments Act of 1972 (20 U.S.C. 1681 et seq).

(E) Accessible Technology

The Rehabilitation Act Amendments of 1998 apply to all electronic technology (EIT) used by a grantee for transmitting, receiving, using or storing information to carry out the responsibilities of any federal grant awarded. The Act's coverage includes, but is not limited to, computers (hardware, software, word-processing, e-mail, and web pages), facsimile machines, copiers and telephones. When developing, procuring, maintaining, or using EIT, funding recipients must ensure that the EIT allows employees with disabilities and members of the public with disabilities to have access to and use of information and data that is comparable to the access and use of information and data by employees and members of the public who do not have disabilities. If these standards impose a hardship on a funding recipient, they may provide an alternative means to allow the individual to use the information and data. However, no grantee will be required to provide information services to a person with disabilities at any location other than the location at which the information services are generally provided.

V. Application Selection Process

(A) Rating and Ranking

HUD will evaluate applications competitively and rank them against all other applicants that have applied for the PHASES-TA program.

(1) Once scores are assigned, all applications will be listed in rank order.

(2) Applications will be funded in rank order; however, HUD reserves the right to make selections out of rank order to provide for geographic distribution of its funds.

(3) HUD reserves the right to adjust funding levels for each applicant as follows:

(a) Adjust funding levels for any provider based upon the size and needs of the provider's operating service area, the funds available for that area, the number of other awardees selected in that area, funds available on a national basis for providers that will be operating nationally, or the scope of the technical assistance to be provided;

(b) To negotiate increased grant awards with applicants approved for funding if HUD requests them to offer coverage to geographic areas for which they did not apply or budget, or if HUD receives an insufficient amount of applications;

(c) If funds remain after all selections have been made, remaining funds may be made available for other HUD-administered McKinney-Vento Act program competitions.

(B) Factors for Award Used To Evaluate and Rate Applications

The factors and maximum points for each factor are provided below. The maximum number of points to be awarded for a PHASES-TA application is 100. The minimum score for an applicant to be considered in the funding range is 75, with a minimum of 15 points for Factor 1. Rating of the “applicant” or the “applicant's organization and staff,” unless otherwise specified, will include any sub-contractors, consultants, sub-recipients, and members of consortia which are firmly committed to the project. When addressing the Factors for Award, applicants should discuss the specific TA projects, activities, tasks, etc., suggested to be carried out during the term of the cooperative agreement. See Sections IV(C)(2) and (3) of this NOFA for a discussion of the Demand/Response Delivery System and the TADP and the extent to which such activities may be revised at or after time of award. In responding to the factors, applicants should be specific about the type of experience, knowledge, skills and abilities that organization, staff, and any subcontractors have with the PHASES-TA program and should provide relevant examples to support the application. Applicants should also be specific when detailing the communities, populations and/or organizations which they propose to serve, especially in response to Factor 3, Subfactor 2.

Rating Factor 1: Capacity of the Applicant and Relevant Organizational Staff (25 Points) (Minimum for Funding Eligibility: 15 Points)

In rating this factor, HUD will consider the extent to which the application demonstrates, in relation to the PHASES-TA program funding that is requested:

(1) (10 points) Recent relevant and successful experience of an applicant's organization and staff in providing technical assistance in all eligible activities and to all eligible entities for the PHASES-TA program, as described in the NOFA; (In rating this factor, HUD will evaluate experience, preferably within the last 4 years, which describes and documents specific examples of actual past work.)

(2) (8 points) The relevant experience, including past experience in providing similar services to HUD and HUD clients, competence, knowledge, skills, and abilities of key personnel in managing complex, multi-faceted or multi-disciplinary programs that require coordination with other PHASES-TA entities or multiple, diverse units in an organization; (In rating this factor, HUD will evaluate the resumes of key staff, consultants, and subcontractors for their recent (within 4 years) and relevant experience in performing activities that are substantially the same as the activities covered by this NOFA, as well as clearly described and documented examples of the work.)

(3) (7 points) Sufficient personnel or access to qualified experts or professionals with the knowledge, skills, and abilities to deliver the proposed level of technical assistance in each proposed service area in a timely and effective manner; (In rating this factor, HUD will evaluate the resumes of key staff, consultants, and subcontractors to determine their availability to perform the work, factoring in time and geography.)

Rating Factor 2: Need/Extent of the Problem (20 Points)

In rating this factor, HUD will consider the extent to which the application:

(1) (10 points) Identifies high priority needs and issues for the PHASES-TA program; (In rating this factor, HUD will be looking for very specific needs and issues and a detailed demonstration of the applicant's knowledge of the homeless programs.)

(2) (10 points) Outlines a clear and cost-effective plan of suggested TA activities for addressing those needs and aiding a broad range of eligible grantees or potential grantees and/or beneficiaries; (In rating this factor, HUD will evaluate the proposed costs of the program described in the application including labor, travel, and other costs as it relates to costs for similar activities in other TA programs which HUD has undertaken.)

Rating Factor 3: Soundness of Approach (30 Points)

In rating this factor, HUD will consider the extent to which the application:

(1) (7 points) Provides evidence of a sound approach in addressing identified needs; (In rating this factor, HUD will evaluate the specific techniques and methods proposed to alleviate the needs identified in the application.)

(2) (8 points) Provides a cost-effective plan for designing, organizing, managing, and carrying out the suggested technical assistance activities within the framework of the Demand/Response System; (In rating this factor, HUD will evaluate how clearly the applicant spells out how it will operate under the requirements of the Demand/Response System, including: (a) How it will operate under the direction of, and respond to requests for assistance from HUD; (b) how it will handle competing demands for assistance; and (c) how it will coordinate activities. The work plan should have built-in flexibility to allow for unanticipated demands for assistance.)

(3) (10 points) Demonstrates an effective outreach and assistance program to the identified clients for the categories of assistance being proposed; (In rating this factor, HUD will evaluate whether the applicant specifically names and accurately identifies communities (meaning neighborhoods as well as localities) and/or organizations that are significantly disadvantaged and underserved by McKinney-Vento programs. HUD will also evaluate if the applicant persuasively demonstrates that the identified community/organization has a high potential to participate in McKinney-Vento programs if it receives the level of TA proposed.)

(4) (5 points) Proposes a feasible, creative plan to transfer models and lessons learned in its PHASES-TA program activities to other community programs; (In rating this factor, HUD will evaluate whether the applicant has proposed a clear and feasible plan for obtaining and disseminating information on lessons learned in each of its TA activities to other TA clients, using state of the art or new promising technology as appropriate.)

Rating Factor 4: Quality/Responsiveness and Sustainability (15 Points)

HUD will review applications to determine if they meet the following quality standards:

(1) (10 points) The proposed TA must be appropriate and responsive to the needs of the project sponsors, McKinney-Vento grantees, and potential applicants to be served, as well as the localities involved. The PHASES-TA applicant should emphasize how they will advise and train project applicants and project sponsors in undertaking program planning, community consultations, housing development and operations, coordination with related health-care and other supportive services, and evaluation and reporting on program performance. All of these elements are especially important when addressing the needs of providers desiring to provide permanent housing for severely mentally ill persons, homeless veterans, homeless persons in Colonias, and chronically homeless and hard-to reach individuals and families; (In rating this factor, HUD will evaluate the specificity in which each element of this factor is addressed that demonstrates both an understanding of the issues and solid experience and methods in fulfilling each of the elements.) HUD may find the technical assistance to be inappropriate if:

(a) The technical assistance to be provided does not show how participants will be helped to expand their capacity to develop permanent housing, if proposing activities in this category of technical assistance; or, for those proposing to serve the other three categories, if the proposal does not show how participants will be helped to expand their capacity to develop McKinney-Vento projects serving the special subpopulations they propose to serve.

(b) Development of housing and housing accessibility for persons with disabilities will not be provided as required by applicable laws including Section 504 of the Rehabilitation Act of 1973, the Americans with Disabilities Act of 1990 and the Fair Housing Act and their implementing regulations.

(c) The technical assistance provided or activities proposed will not result in service delivery in the most integrated setting appropriate for qualified persons with disabilities, consistent with the objectives of the President's New Freedom Initiative and Olmstead v. L.C.

(d) The technical assistance to be provided does not address community-wide planning to avoid duplication of service activity or service provision.

(e) The technical assistance to be provided does not demonstrate responsive, efficient and cost-effective planning in its proposed activities.

(2) (5 Points). The proposed TA must promote sustainability. Sustainability refers to the potential for TA recipient organizations to become self-sustaining financially, and the potential of a specific project or activity to be sustained into the future absent any McKinney-Vento funding; (In rating this factor, HUD will evaluate the specificity in which sustainability is addressed and any experience the applicant can document in achieving this goal.)

Rating Factor 5: Achieving Results and Program Evaluation (10 Points)

This factor emphasizes HUD's commitment to ensure that grantees keep promises made in their applications and to assess their performance to ensure performance goals are met. Program evaluation requires that the applicant identify program outcomes, interim products or benchmarks, and performance indicators that will allow measure of performance. Performance indicators should be quantifiable and measure actual against planned achievements. Applicants are also asked to describe their successful past performance, including timely and cost-effective delivery of services, in other relevant community development and/or technical assistance programs.

In rating this factor, HUD will consider the extent to which the application:

(1) (5 points) Proposes an effective, outcome-oriented evaluation plan for measuring performance. The evaluation plan should identify outcomes to be measured, how they will be measured, and the steps in place to make adjustments to work plans if performance targets are not met within established timeframes. The evaluation plan should also identify shortcomings and recommend areas for improvement when providing technical assistance services. The applicant is also asked to describe previous experience developing such plans; (In rating this factor, HUD will evaluate the specificity in which the evaluation plan is developed and the applicant's previous experience in developing such plans.)

(2) (5 points) Demonstrates successful past performance in administering HUD McKinney-Vento TA grants. Applicants new to HUD's Community Development Technical Assistance (CD-TA) Programs should certify to that fact. In order to reach new technical assistance providers in the McKinney-Vento Act homeless assistance program area, up to 25% of the funds will be reserved for applicants who have not previously been funded under a community and planning development technical assistance competition. If qualified new applicants are not found in each field office and/or at the national level, the remaining funds will be made available for previously funded providers. (Note: There will be no point deduction on this subfactor for new applicants who comply with the above requirement.) Applicants new to the HUD Supportive Housing-TA or Homeless-TA Programs should certify to that fact, but should demonstrate successful past performance in providing technical assistance in other community development programs. (In rating this factor, HUD will use currently available information in HUD files, including financial and drawdown information, for all current Community Development TA providers.)

VI. Application Submission Requirements

The application must, at a minimum, contain the following items:

(A) Transmittal Letter which identifies the NOFA, the dollar amount requested, and the applicant or applicants submitting the application.

(B) Narrative statement addressing the Factors for Award described in section V of this NOFA. An applicant should number the narrative response in accordance with each factor for award. This narrative statement will be the basis for evaluating the application. It should include a plan of suggested TA activities as described in factors 2, 3, and elsewhere. These suggested TA activities may form a starting point for negotiating the TADP described in section IV(C)(2) of this NOFA.

(C) Budget Summary identifying costs for implementing the plan of suggested TA activities by cost category, in accordance with the following:

(1) Direct Labor by position or individual, indicating the estimated hours per position, the rate per hour, estimated cost per staff position, and the total estimated direct labor costs;

(2) Fringe Benefits by staff position identifying the rate, the salary base the rate was computed on, estimated cost per position, and the total estimated fringe benefit cost;

(3) Material Costs indicating the item, quantity, unit cost per item, estimated cost per item, and the total estimated material costs;

(4) Transportation Costs, as applicable;

(5) Equipment charges, if any. Equipment charges should identify the type of equipment, quantity, unit costs, and total estimated equipment costs;

(6) Consultant Costs, if applicable. Indicate the type, estimated number of consultant days, rate per day, total estimated consultant costs per consultant, and total estimated costs for all consultants.

(7) Subcontract Costs, if applicable. Indicate each individual subcontract and amount;

(8) Other Direct Costs listed by item, quantity, unit cost, total for each item listed, and total other costs for the award;

(9) Indirect Costs should identify the type, approved indirect cost rate, base to which the rate applies and total indirect costs.

These line items should total the amount requested for the PHASES-TA program.

VII. Corrections, Debriefing

(A) Corrections to Deficient Applications

After the application due date, HUD may not, consistent with its regulations in 24 CFR part 4, subpart B, consider any unsolicited information applicants may want to provide. HUD may contact applicants to clarify an item in an application or to correct technical deficiencies. HUD may not seek clarification of items or responses that improve the substantive quality of responses to any rating factors. In order to not unreasonably exclude applications from being rated and ranked, HUD may contact applicants to ensure proper completion of the application and will do so on a uniform basis for all applicants. Examples of correctable technical deficiencies include failure to submit the proper certifications or failure to submit an application that contains an original signature by an authorized official. In each case, HUD will notify applicants in writing by describing the clarification or technical deficiency. HUD will notify applicants by facsimile (FAX) or by USPS, return receipt requested. Clarifications or corrections of technical deficiencies in accordance with the information provided by HUD must be submitted within 14 calendar days of the date of receipt of the HUD notification. (If the due date falls on a Saturday, Sunday, or federal holiday, an applicant's correction must be received by HUD on the next day that is not a Saturday, Sunday, or federal holiday.) If the deficiency is not corrected within this time period, HUD will reject the application as incomplete and it will not be considered for funding.

(B) Applicant Debriefing

Beginning not less than 30 days after the Department publicly announces the awards for assistance, and for at least 120 days after such announcement, HUD will provide any requesting applicant with a debriefing on their application. All requests for debriefing must be made in writing or email by the authorized official whose signature appears on the HUD-424 or his or her successor in office. Applicants should submit their requests to Jean Whaley, who may be reached at (202) 708-3176, extension 2774 (this is not a toll-free number). Information provided to applicants during the debriefing will include, at a minimum, the final score received for each rating factor, final evaluator comments for each rating factor, and the final assessment indicating the basis upon which assistance was provided or denied.

VIII. Findings and Certifications

(A) Federalism Impact

Executive Order 13132 (captioned “Federalism”) prohibits, to the extent practicable and permitted by law, an agency from promulgating a regulation that has federalism implications and either imposes substantial direct compliance costs on state and local governments and is not required by statute, or preempts state law, unless the relevant requirements of section 6 of the Executive Order are met. This NOFA does not have federalism implications and does not impose substantial direct compliance costs on state and local governments nor preempt state law within the meaning of the Executive Order.

(B) Accountability in the Provision of HUD Assistance

Section 102 of the Department of Housing and Urban Development Reform Act of 1989 (HUD Reform Act) and the regulations in 24 CFR part 4, subpart A contain a number of provisions that are designed to ensure greater accountability and integrity in the provision of certain types of assistance administered by HUD. On January 14, 1992 (57 FR 1942), HUD published a notice that also provides information on the implementation of section 102. HUD will comply with the documentation, public access, and disclosure requirements of section 102 with regard to the assistance awarded under this NOFA, as follows:

(1) Documentation and public access requirements. HUD will ensure that documentation and other information regarding each application submitted pursuant to this NOFA are sufficient to indicate the basis upon which assistance was provided or denied. This material, including any letters of support, will be made available for public inspection for a 5-year period beginning not less than 30 days after the award of the assistance. Material will be made available in accordance with the Freedom of Information Act (5 U.S.C. 552) and HUD's implementing regulations at 24 CFR part 15.

(2) Disclosures. HUD will make available for public inspection for 5 years all applicant disclosure reports (HUD Form 2880) submitted in connection with this NOFA. Update reports (also reported on HUD Form 2880) will be made available along with the applicant disclosure reports, but in no case for a period of less than three years. All reports, both applicant disclosures and updates, will be made available in accordance with the Freedom of Information Act (5 U.S.C. 552) and HUD's implementing regulations at 24 CFR part 15.

(3) Publication of Recipients of HUD Funding. HUD's regulations at 24 CFR part 4 provide that HUD will publish a Notice in the Federal Register to notify the public of all decisions made by the Department to provide:

(i) Assistance subject to section 102(a) of the HUD Reform Act; and/or

(ii) Assistance provided through grants or cooperative agreements on a discretionary (non-formula, non-demand) basis, but that is not provided on the basis of a competition.

(C) Section 103 HUD Reform Act

HUD will comply with section 103 of the Department of Housing and Urban Development Reform Act of 1989 and HUD's implementing regulations in subpart B of 24 CFR part 4 with regard to the funding competition announced today. These requirements continue to apply until the announcement of the selection of successful applicants. HUD employees involved in the review of applications and in the making of funding decisions are limited by section 103 from providing advance information to any person (other than an authorized employee of HUD) concerning funding decisions, or from otherwise giving any applicant an unfair competitive advantage. Persons who apply for assistance in this competition should confine their inquiries to the subject areas permitted under section 103 and subpart B of 24 CFR part 4.

Applicants or employees who have ethics related questions should contact the HUD Ethics Law Division at (202) 708-3815 (this is not a toll-free number). For HUD employees who have specific program questions, such as whether particular subject matter can be discussed with persons outside HUD, the employee should contact the appropriate Field Office Counsel.

(D) Paperwork Reduction Act Statement

The information collection requirements in this NOFA have been approved by OMB under the Paperwork Reduction Act of 1995 (44 U.S.C. 3501-3520). The OMB number is 2506-0166, valid through November 30, 2004. Under the Paperwork Reduction Act, an agency may not conduct or sponsor, and a person is not required to respond to, a collection of information unless the collection displays a valid control number.

(E) Environmental Requirements

This NOFA does not direct, provide for assistance or loan and mortgage insurance for, or otherwise govern or regulate, real property acquisition, disposition, leasing, rehabilitation, alteration, demolition, or new construction, or establish, revise or provide for standards for construction or construction materials, manufactured housing, or occupancy. Accordingly, under 24 CFR 50.19 (c)(1), this NOFA is categorically excluded from the requirements of the National Environmental Policy Act of 1969 (42 U.S.C. 4321).

In accordance with 24 CFR 50.19(b)(9) and 58.34(a)(9), the assistance provided by this NOFA relates only to the provision of technical assistance and is categorically excluded from the requirements of the National Environmental Policy Act and not subject to environmental review under the related laws and authorities.

(F) Catalog of Federal Domestic Assistance Numbers

The Federal Domestic Assistance number for this program is 14.506.

IX. Authority

McKinney-Vento Act Homeless Assistance Programs Technical Assistance. The Supportive Housing Program is authorized under 42 U.S.C. 11381 et seq.; 24 CFR 583.140. The Emergency Shelter Grant, Section 8 Moderate Rehabilitation Single Room Occupancy Program and the Shelter Plus Care Technical Assistance Programs are authorized by the FY 2002 HUD Appropriations Act.

Dated: April 15, 2003.
Roy A. Bernardi,
Assistant Secretary for Community Planning and Development.

[FR Doc. 03-10094 Filed 4-23-03; 8:45 am]

BILLING CODE 4210-29-P